DEPARTMENT OF LABOR

Employment and Training Administration

[TA-W-72,048]

FLSMidth, Inc., Cement Division, Product Engineering, Including On-Site Leased Workers of Aerotek Contract Engineering, Allied Personnel Services, Eastern Engineering, Hobbie Professional Services, Mccallion Staffing Specialists, Peak Technical Services, Inc., Yoh Engineering, and Clarke Consulting, Inc., Bethlehem, PA; Amended Certification Regarding Eligibility To Apply for Worker Adjustment Assistance

In accordance with Section 223 of the Trade Act of 1974, as amended (“Act”), 19 U.S.C. 2273, the Department of Labor issued a Certification of Eligibility to Apply for Worker Adjustment Assistance on November 3, 2009, applicable to workers of FLSmidth, Inc., Cement Division, Product Engineering, including on-site leased workers of Aerotek Contract Engineering, Allied Personnel Services, Eastern Engineering, Hobbie Professional Services, McCallion Staffing Specialists, Peak Technical Services, Inc., and Yoh Engineering, Bethlehem, Pennsylvania. The notice will be published soon in the Federal Register.

At the request of the petitioner, the Department reviewed the certification for workers of the subject firm. The workers are engaged in employment related to the supply of product engineering services.

The company reports that on-site leased workers from Clarke Consulting, Inc. were also employed on-site at FLSmidth, Inc., Cement Division, Product Engineering, Bethlehem, Pennsylvania. The Department has determined that these workers were sufficiently under the control of the subject firm to be considered leased workers.

Based on these findings, the Department is amending this certification to include workers leased from Clarke Consulting, Inc. working on-site at FLSmidth, Inc., Cement Division, Product Engineering, Bethlehem, Pennsylvania.

The amended notice applicable to TA-W-72, 048 is hereby issued as follows:

All workers of FLSmidth, Inc., Cement Division, Product Engineering, including on-site leased workers of Aerotek Contract Engineering, Allied Personnel Services, Eastern Engineering, Hobbie Professional Services, McCallion Staffing Specialists, Peak Technical Services, Inc., Yoh Engineering, and Clarke Consulting, Inc., Bethlehem, Pennsylvania, who became totally or partially separated from employment on or after August 14, 2008, through November 3, 2011, and all workers in the group threatened with total or partial separation from employment on date of certification through two years from the date of certification, are eligible to apply for adjustment assistance under Chapter 2 of Title II of the Trade Act of 1974, as amended.

Signed at Washington, DC, this 27th day of December 2009.
Richard Church,
Certifying Officer, Division of Trade Adjustment Assistance.

[FR Doc. E9-31392 Filed 1-4-10; 8:45 am]

BILLING CODE 4510-FN-P